DEPARTMENT OF THE INTERIOR

Bureau of Land Management

[16X LLAK910000.L13100000. DB0000.LXSINSSI0000]

Notice of Public Meeting, North Slope Science Initiative—Science Technical Advisory Panel

AGENCY: Bureau of Land Management Alaska, North Slope Science Initiative, Interior.

ACTION: Notice of public meeting.

SUMMARY: In accordance with the Federal Land Policy and Management Act and the Federal Advisory Committee Act, the U.S. Department of the Interior, North Slope Science Initiative (NSSI)—Science Technical Advisory Panel (STAP) will meet as indicated below.

DATES: The meeting will be held February 8-10, 2016, in Fairbanks, Alaska. The meeting will be held in the International Arctic Research Center, University of Alaska Fairbanks, 930 Koyukuk Drive, Fairbanks, Alaska 99775. The meeting will begin on Monday, February 8, 2016, at 1:30 p.m., in Room 417. The meeting will continue in Room 501 on Tuesday and Wednesday, February 9-10, beginning at 8:30 a.m. each day. There will be an opportunity for public comment from 4:30 to 5:00 p.m. on Monday, February 8. Depending on the number of persons wishing to comment and time available, the time for individual oral comments may be limited.

FOR FURTHER INFORMATION CONTACT: Denny Lassuy, Acting Director, North Slope Science Initiative, Bureau of Land Management, 222 W. Seventh Avenue, #13, Anchorage, AK 99513, (907) 271-4212 or email dlassuy@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The NSSI STAP provides advice and recommendations to the NSSI Oversight Group regarding priority information needs for management decisions across the North Slope of Alaska. These priority information needs may include recommendations on inventory, monitoring, and research activities that contribute to informed resource management decisions. This meeting will include introductions of new appointees, review of STAP procedures, continued review of emerging issues, and application of North Slope Scenarios implications to inventory, monitoring and research priorities. Individuals who plan to attend and need special assistance, such as sign language interpretation, transportation, or other reasonable accommodations, should contact the NSSI Director. The public may present written comments to the STAP through the NSSI Acting Director. Before including your address, phone number, email address, or other personal identifying information in your comment, you should be aware that your entire comment—including your personal identifying information—may be made publicly available. While you can ask us in your comment to withhold your personal identifying information from public review, we cannot guarantee that we will be able to do so.

Bud C. Cribley,
State Director.

[FR Doc. 2016-00002 Filed 1-6-16; 8:45 am]

BILLING CODE 4310-JA-P